ENVIRONMENTAL PROTECTION AGENCY

40 CFR Part 52

[R05-OAR-2005-IN-0001; FRL-7894-8]

Approval and Promulgation of Air Quality Implementation Plans; Indiana

AGENCY: Environmental Protection Agency (EPA).

ACTION: Direct final rule.

SUMMARY: The EPA is approving revisions to volatile organic compound (VOC) requirements for Transwheel Corporation (Transwheel) of Huntington County, Indiana. Transwheel owns and operates an aluminum wheel reprocessing plant at which it performs cold cleaner degreasing operations. On December 22, 2004, the Indiana Department of Environmental Management (IDEM) submitted a Commissioner's Order containing the revised requirements, and requested that EPA approve it as an amendment to the Indiana State Implementation Plan (SIP). The December 22, 2004, submission supplements a November 8, 2001, submission. IDEM is seeking EPA approval of “an equivalent control device” for Transwheel's degreasing operations, under 326 Indiana Administrative Code (IAC) 8-3-5(a)(5)(C).

DATES: This “direct final” rule is effective on June 13, 2005 unless EPA receives adverse written comments by May 12, 2005. If adverse comment is received, EPA will publish a timely withdrawal of the rule in the Federal Register and inform the public that the rule will not take effect.

ADDRESSES: Submit comments, identified by Regional Material in E-Docket (RME) ID No. R05-OAR-2005-IN-0001 by one of the following methods:

Federal eRulemaking Portal: http://www.regulations.gov. Follow the on-line instructions for submitting comments.

Agency Website: http://docket.epa.gov/rmepub/. RME, EPA's electronic public docket and comments system, is EPA's preferred method for receiving comments. Once in the system, select “quick search,” then key in the appropriate RME Docket identification number. Follow the on-line instructions for submitting comments.

E-mail: mooney.john@epa.gov.

Fax: (312)886-5824.

Mail: You may send written comments to:

John Mooney, Chief, Criteria Pollutant Section, (AR-18J), U.S. Environmental Protection Agency, 77 West Jackson Boulevard, Chicago, Illinois 60604.

Hand delivery: Deliver your comments to: John Mooney, Chief, Criteria Pollutant Section, (AR-18J), U.S. Environmental Protection Agency, Region 5, 77 West Jackson Boulevard, 18th floor, Chicago, Illinois 60604.

Such deliveries are only accepted during the Regional Office's normal hours of operation. The Regional Office's official hours of business are Monday through Friday, 8:30 a.m. to 4:30 p.m. excluding Federal holidays.

Instructions: Direct your comments to RME ID No. R05-OAR-2005-IN-0001. EPA's policy is that all comments received will be included in the public docket without change, including any personal information provided, unless the comment includes information claimed to be Confidential Business Information (CBI) or other information whose disclosure is restricted by statute. Do not submit information that you consider to be CBI or otherwise protected through RME, regulations.gov, or e-mail. The EPA RME website and the federal regulations.gov website are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of the related proposed rule which is published in the Proposed Rules section of this Federal Register.

Docket: All documents in the electronic docket are listed in the RME index at http://docket.epa.gov/rmepub/. Although listed in the index, some information is not publicly available, i.e., CBI or other information whose disclosure is restricted by statute. Publicly available docket materials are available either electronically in RME or in hard copy at the U.S. Environmental Protection Agency, Region 5, Air and Radiation Division, 77 West Jackson Boulevard, Chicago, Illinois 60604. We recommend that you telephone Matt Rau, Environmental Engineer, at (312) 886-6524 before visiting the Region 5 office. This Facility is open from 8:30 a.m. to 4:30 p.m., Monday through Friday, excluding legal holidays.

FOR FURTHER INFORMATION CONTACT: Matt Rau, Environmental Engineer, Criteria Pollutant Section, Air Programs Branch (AR-18J), U.S. Environmental Protection Agency, Region 5, 77 West Jackson Boulevard, Chicago, Illinois 60604, Telephone: (312) 886-6524, E-Mail: rau.matthew@epa.gov.

SUPPLEMENTARY INFORMATION: Throughout this document wherever “we,” “us,” or “our” are used we mean EPA.

Table of Contents

I. General Information

A. Does This Action Apply to Me?

B. How Can I Get Copies of This Document and Other Related Information?

C. How and to Whom Do I Submit Comments?

II. What Is EPA Approving?

III. What Are the Changes From the Current Rule?

IV. What Is EPA's Analysis of the Supporting Materials?

V. What Are the Environmental Effects of These Actions?

VI. What Rulemaking Action Is EPA Taking?

VII. Statutory and Executive Order Reviews

I. General Information

A. Does This Action Apply to Me?

This action applies to a single source, Transwheel Corporation, whose facility is located in Huntington County, Indiana.

B. How Can I Get Copies of This Document and Other Related information?

1. The Regional Office has established an electronic public rulemaking file available for inspection at RME under ID No. R05-OAR-2005-IN-0001, and a hard copy file which is available for inspection at the Regional Office. The official public file consists of the documents specifically referenced in this action, any public comments received, and other information related to this action. Although a part of the official docket, the public rulemaking file does not include CBI or other information whose disclosure is restricted by statute. The official public rulemaking file is the collection of materials that is available for public viewing at the Air Programs Branch, Air and Radiation Division, EPA Region 5, 77 West Jackson Boulevard, Chicago, Illinois 60604. EPA requests that if at all possible, you contact the person listed in the FOR FURTHER INFORMATION CONTACT section to schedule your inspection. The Regional Office's official hours of business are Monday through Friday, 8:30 a.m. to 4:30 p.m. excluding Federal holidays.

2. Electronic Access. You may access this Federal Register document electronically through the regulations.gov web site located at http://www.regulations.gov where you can find, review, and submit comments on Federal rules that have been published in the Federal Register, the Government's legal newspaper, and are open for comment.

For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

C. How and To Whom Do I Submit Comments?

You may submit comments electronically, by mail, or through hand delivery/courier. To ensure proper receipt by EPA, identify the appropriate rulemaking identification number by including the text “Public comment on proposed rulemaking Region 5 Air Docket R05-OAR-2005-IN-0001” in the subject line on the first page of your comment. Please ensure that your comments are submitted within the specified comment period. Comments received after the close of the comment period will be marked “late.” EPA is not required to consider these late comments.

For detailed instructions on submitting public comments and on what to consider as you prepare your comments see the ADDRESSES section and the section I General Information of the SUPPLEMENTARY INFORMATION section of the related proposed rule which is published in the Proposed Rules section of this Federal Register.

II. What Is EPA Approving?

EPA is approving a revision to Indiana's VOC SIP for Transwheel. The company has requested that it be permitted to use an oil cover as an equivalent control device for its cold cleaner degreaser, under 326 IAC 8-3-5(a)(5)(C). The oil cover is a layer of mineral oil several inches thick floating over the cleaning solvent in a dip tank. The solvent is a mixture of two water miscible compounds, N-methyl-2-pyrrolidinone (NMP) and ethanol amine (MEA). The oil cover controls VOC emissions from the dip tank by reducing solvent evaporation.

III. What Are the Changes From the Current Rule?

Indiana's cold cleaner degreaser control requirements are contained in 326 IAC 8-3-5. Under Section (a)(5) of this rule, degreasers that use volatile or heated solvent are required to control VOC emissions by using a water cover over the solvent, using a freeboard ratio over 0.75, or by using “other systems of demonstrated equivalent control...” Such equivalent systems, however, must be submitted to and approved by EPA as SIP revisions.

IV. What Is EPA's Analysis of the Supporting Materials?

Indiana supplied EPA with technical information on the solvents used by Transwheel and the requested oil cover. Indiana also provided information on why a water cover would not work with the solvents used and why the freeboard ratio of the tank cannot practically be increased to the level required by 326 IAC 8-3-5.

The solvents Transwheel uses, NMP and MEA, are miscible in water. An attempt to use a water cover would fail to reduce VOC emissions. The water would blend with the cleaning solvents and not provide any barrier against solvent evaporation. To meet the freeboard ratio requirement of 0.75, Transwheel would need to raise the freeboard height on its dip tank to 34 inches. This would require that the building be altered to accommodate the dip tank's increased height. The cost of raising the roof or lowering the floor makes this option cost prohibitive.

In its “Guide to Cleaner Technologies: Cleaning and Degreasing Process Changes” (EPA/625/R-93/017), EPA suggests the use of an oil cover for operations using heated NMP. Transwheel uses a heated NMP and MEA solvent blend in its operation. The supplied technical information shows that NMP and MEA have similar vapor densities. The oil cover, a layer of mineral oil several inches deep, provides a physical barrier between the cleaning solvents and the atmosphere. Thus, it is reasonable to expect an oil cover to work well for controlling VOC emissions from an NMP and MEA solvent blend.

It should also be noted that this request constitutes a petition for a site-specific reasonably available control technology (RACT) plan under 326 IAC 8-1-5. Consequently, Transwheel was required to demonstrate to IDEM that the oil cover constitutes RACT for the subject facility, as well as address the other factors specified in 326 IAC 8-1-5(a).

V. What Are the Environmental Effects of These Actions?

The primary reason for control technologies in this type of facility is to reduce precursors of tropospheric (ground level) ozone. Reactions involving VOCs and nitrogen oxides in warm air form tropospheric ozone. The highest concentrations of ozone occur in the warm months of the year. Ozone decreases lung function causing chest pain and coughing. It can aggravate asthma and other respiratory diseases. Children playing outside and healthy adults who work or exercise outside also may be harmed by elevated ozone levels. Ozone also reduces vegetation growth and reproduction including economically important agricultural crops.

The oil cover is expected to provide equivalent VOC emission reductions to what would have been achieved by raising the freeboard height to the required freeboard ratio. Controlling VOC emissions from the Transwheel facility should help to reduce tropospheric ozone formation in northeastern Indiana.

VI. What Rulemaking Action Is EPA Taking?

EPA is approving, through direct final rulemaking, revisions to VOC emissions regulations for the Transwheel aluminum wheel reprocessing facility in Huntington County, Indiana. The revision provides for the use of an oil cover as an equivalent VOC emission control system under 326 IAC 8-3-5 for its cold cleaner degreaser.

We are publishing this action without prior proposal because we view this as a noncontroversial revision and anticipate no adverse comments. However, in the “Proposed Rules” section of today's Federal Register, we are publishing a separate document that will serve as the proposal to approve the SIP revision if relevant adverse written comments are filed. This rule will be effective June 13, 2005 without further notice unless we receive relevant adverse written comment by May 12, 2005. If we receive such comments, we will publish a final rule informing the public that this rule will not take effect. We will address all public comments in a subsequent final rule based on the proposed rule. The EPA does not intend to institute a second comment period on this action. Any parties interested in commenting on this action must do so at this time.

VII. Statutory and Executive Order Reviews

Executive Order 12866: Regulatory Planning and Review

Under Executive Order 12866 (58 FR 51735, October 4, 1993), this action is not a “significant regulatory action” and therefore is not subject to review by the Office of Management and Budget.

Executive Order 13211: Actions Concerning Regulations That Significantly Affect Energy Supply, Distribution, or Use

For this reason, this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132: Federalism

This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: rules of particular applicability; rules relating to agency management or personnel; and rules of agency organization, procedure, or practice that do not substantially affect the rights or obligations of non agency parties. 5 U.S.C. 804(3). EPA is not required to submit a rule report regarding today's action under section 801 because this is a rule of particular applicability.

Under section 307(b)(1) of the Clean Air Act, petitions for judicial review of this action must be filed in the United States Court of Appeals for the appropriate circuit by June 13, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Incorporation by reference, Ozone, Volatile organic compounds.

Dated: March 1, 2005.
Norman Niedergang,
Acting Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart P—Indiana

2. Section 52.770 is amended by adding paragraph (c)(169) to read as follows:

§ 52.770 Identification of plan.

* * * * *

(c) * * *

(169) On December 22, 2004, Indiana submitted a request to revise the volatile organic compound requirements for Transwheel Corporation of Huntington County, Indiana. EPA is approving the oil cover as an equivalent control device under 326 Indiana Administrative Code 8-3-5 (a)(5)(C).

(i) Incorporation by reference.

(A) Commissioner's Order #2004-04 as issued by the Indiana Department of Environmental Management on December 22, 2004.

[FR Doc. 05-7329 Filed 4-11-05; 8:45 am]

BILLING CODE 6560-50-P